DEPARTMENT OF COMMERCE

International Trade Administration

[A-122-838]

Notice of Amended Final Determination of Sales at Less Than Fair Value and Antidumping Duty Order: Certain Softwood Lumber Products From Canada

AGENCY: Import Administration, International Trade Administration, Department of Commerce.

EFFECTIVE DATE: May 22, 2002.

FOR FURTHER INFORMATION CONTACT: Constance Handley or Charles Riggle, Office of AD/CVD Enforcement 2, Import Administration, International Trade Administration, U.S. Department of Commerce, 14th Street and Constitution Avenue, NW., Washington, DC 20230; telephone: (202) 482-0631 or (202) 482-0650, respectively.

The Applicable Statute and Regulations

Unless otherwise indicated, all citations to the statute are references to the provisions effective January 1, 1995, the effective date of the amendments made to the Tariff Act of 1930 (the Act) by the Uruguay Round Agreements Act (URAA). In addition, unless otherwise indicated, all citations to Department of Commerce (the Department) regulations refer to the regulations last codified at 19 CFR part 353 (April 1, 2001).

Scope of the Order

The products covered by this order are softwood lumber, flooring and siding (softwood lumber products). Softwood lumber products include all products classified under headings 4407.1000, 4409.1010, 4409.1090, and 4409.1020, respectively, of the Harmonized Tariff Schedule of the United States (HTSUS), and any softwood lumber, flooring and siding described below. These softwood lumber products include:

(1) Coniferous wood, sawn or chipped lengthwise, sliced or peeled, whether or not planed, sanded or finger-jointed, of a thickness exceeding six millimeters;

(2) coniferous wood siding (including strips and friezes for parquet flooring, not assembled) continuously shaped (tongued, grooved, rabbeted, chamfered, v-jointed, beaded, molded, rounded or the like) along any of its edges or faces, whether or not planed, sanded or finger-jointed;

(3) other coniferous wood (including strips and friezes for parquet flooring, not assembled) continuously shaped (tongued, grooved, rabbeted, chamfered, v-jointed, beaded, molded, rounded or the like) along any of its edges or faces (other than wood mouldings and wood dowel rods) whether or not planed, sanded or finger-jointed; and

(4) coniferous wood flooring (including strips and friezes for parquet flooring, not assembled) continuously shaped (tongued, grooved, rabbeted, chamfered, v-jointed, beaded, molded, rounded or the like) along any of its edges or faces, whether or not planed, sanded or finger-jointed.

Although the HTSUS subheadings are provided for convenience and U.S. Customs purposes, the written description of the merchandise subject to this order is dispositive.

As specifically stated in the Issues and Decision Memorandum accompanying the Notice of Final Determination of Sales at Less Than Fair Value: Certain Softwood Lumber Products from Canada, 67 FR 15539 (April 2, 2002) (Final Determination) (see comment 53, item D, page 116, and comment 57, item B-7, page 126), available at WWW.IA.ITA.DOC.GOV, drilled and notched lumber and angle cut lumber are covered by the scope of this order.

The following softwood lumber products are excluded from the scope of this order provided they meet the specified requirements detailed below :

(1) Stringers (pallet components used for runners): if they have at least two notches on the side, positioned at equal distance from the center, to properly accommodate forklift blades, properly classified under HTSUS 4421.90.98.40.

(2) Box-spring frame kits: if they contain the following wooden pieces—two side rails, two end (or top) rails and varying numbers of slats. The side rails and the end rails should be radius-cut at both ends. The kits should be individually packaged, they should contain the exact number of wooden components needed to make a particular box spring frame, with no further processing required. None of the components exceeds 1″ in actual thickness or 83″ in length.

(3) Radius-cut box-spring-frame components, not exceeding 1″ in actual thickness or 83″ in length, ready for assembly without further processing. The radius cuts must be present on both ends of the boards and must be substantial cuts so as to completely round one corner.

(4) Fence pickets requiring no further processing and properly classified under HTSUS heading 4421.90.70, 1″ or less in actual thickness, up to 8″ wide, 6′ or less in length, and have finials or decorative cuttings that clearly identify them as fence pickets. In the case of dog-eared fence pickets, the corners of the boards should be cut off so as to remove pieces of wood in the shape of isosceles right angle triangles with sides measuring ¾ inch or more.

(5) U.S. origin lumber shipped to Canada for minor processing and imported into the United States, is excluded from the scope of this order if the following conditions are met: (1) The processing occurring in Canada is limited to kiln-drying, planing to create smooth-to-size board, and sanding, and (2) if the importer establishes to Customs' satisfaction that the lumber is of U.S. origin.

(6) Softwood lumber products contained in single family home packages or kits,¹ regardless of tariff classification, are excluded from the scope of this order if the importer certifies to items 6 A, B, C, D, and requirement 6 E is met:

¹ To ensure administrability, we clarified the language of exclusion number 6 to require an importer certification and to permit single or multiple entries on multiple days as well as instructing importers to retain and make available for inspection specific documentation in support of each entry.

A. The imported home package or kit constitutes a full package of the number of wooden pieces specified in the plan, design or blueprint necessary to produce a home of at least 700 square feet produced to a specified plan, design or blueprint;

B. The package or kit must contain all necessary internal and external doors and windows, nails, screws, glue, sub floor, sheathing, beams, posts, connectors, contract decking, trim, drywall and roof shingles specified in the plan, design or blueprint;

C. Prior to importation, the package or kit must be sold to a retailer of complete home packages or kits pursuant to a valid purchase contract referencing the particular home design plan or blueprint, and signed by a customer not affiliated with the importer;

D. Softwood lumber products entered as part of a single family home package or kit, whether in a single entry or multiple entries on multiple days, will be used solely for the construction of the single family home specified by the home design matching the entry.

E. For each entry, the following documentation must be retained by the importer and made available to the U.S. Customs Service upon request:

i. A copy of the appropriate home design, plan, or blueprint matching the entry;

ii. A purchase contract from a retailer of home kits or packages signed by a customer not affiliated with the importer;

iii. A listing of inventory of all parts of the package or kit being entered that conforms to the home design package being entered;

iv. In the case of multiple shipments on the same contract, all items listed in E(iii) which are included in the present shipment shall be identified as well.

Lumber products that the Customs Service may classify as stringers, radius cut box-spring-frame components, and fence pickets, not conforming to the above requirements, as well as truss components, pallet components, and door and window frame parts, are covered under the scope of this order and may be classified under HTSUS subheadings 4418.90.45.90, 4421.90.70.40, and 4421.90.97.40.

Finally, as clarified throughout the course of the investigation, the following products, previously identified as Group A, remain outside the scope of this order. They are:

1. Trusses and truss kits, properly classified under HTSUS 4418.90;

2. I-joist beams;

3. Assembled box spring frames;

4. Pallets and pallet kits, properly classified under HTSUS 4415.20;

5. Garage doors;

6. Edge-glued wood, properly classified under HTSUS item 4421.90.98.40;

7. Properly classified complete door frames;

8. Properly classified complete window frames;

9. Properly classified furniture.

Amended Final Determination

On March 21, 2002, in accordance with section 735(a) of the Act, the Department made a final determination that certain softwood lumber products from Canada are being, or are likely to be, sold in the United States at less than fair value. See Final Determination (April 2, 2002). Five of the six respondents ² and the petitioners ³ filed timely allegations that the Department had made ministerial errors in its final determination.

² The six respondents are identified below. Of these companies, only Canfor did not allege that the Department had made ministerial errors.

³ The petitioners are the coalition for Fair Lumber Imports Executive Committee, the United Brotherhood of Carpenters and Joiners, and the Paper, Allied-Industrial, Chemical and Energy Workers International Union.

We have determined, in accordance with 19 CFR 353.28, that certain ministerial errors were made in the final determination. For Abitibi Consolidated, we re-coded certain grades for the dumping margin computer program (computer program) and corrected our treatment of freight rebates, a mistaken freight figure reported by the company, and the exchange rate conversions for packing expenses, early payment discounts and billing adjustments.

For Slocan Forest Products Limited, we regrouped a grade of structural lumber and adjusted the computer program to prevent it from matching products across grade groupings.

For Tembec Corporation, we corrected a coding error which had prevented price-to-price comparisons of spruce-pine-fir products. We adjusted the computer program to prevent it from matching products across grade groups. We also corrected our treatment of billing adjustments, which affected several data fields, included random width and length sales in the calculation of the final margin, and corrected the company's credit expense.

For West Fraser Mills Ltd., we corrected packing and U.S. inventory carrying costs and certain credit expense ratios. We also adjusted the computer program to prevent it from matching products across grade classifications. Finally, we adjusted the costs allocated to species and grade groupings to remove costs for groupings that were not present in the company's sales file.

For Weyerhaeuser, we excluded sales of merchandise not produced by the company and revised the variable and total cost-of-manufacturing data fields to conform with the costs as recalculated for the final determination. We also disaggregated certain products with different machine stress ratings to give these products different grades. Finally, we corrected the computer program to include Weyerhaeuser's re-packing expenses, to correct the currency conversion for the level-of trade adjustment, and to recalculate certain warehousing expenses.

For a detailed discussion of the Department's analysis of the parties' allegations of ministerial errors, see Memorandum to Farrar Shirzad, Assistant Secretary, Import Administration, from Christopher Smith, AD/CVD Office 5, Ministerial Error Allegations, dated April 25, 2002. Therefore, in accordance with 19 CFR 353.28(c), we are amending the final determination of the antidumping duty investigation of certain softwood lumber products from Canada to correct these ministerial errors.

The revised final weighted-average dumping margins are as follows:

Exporter/manufacturer | Original weighted-average margin percentage | Amended weighted-average margin percentage
Abitibi (and its affiliates Produits Forestiers Petit Paris Inc., Produits Forestiers La Tuque Inc., Scieries Saguenay Ltee., Societe En Commandite Sciere Opticwan) | 14.60 | 12.44
Canfor (and its affiliated Lakeland Mills Ltd., The Pas Lumber Company Ltd., Howe Sound Pulp and Paper Limited Partnership) | 5.96 | * 5.96
Slocan | 7.55 | 7.71
Tembec (and its affiliates Marks Lumber Ltd., Excel Forest Products) | 12.04 | 10.21
West Fraser (and its affiliates West Fraser Forest Products Inc., Seehta Forest Products Ltd.) | 2.26 | 2.18
Weyerhaeuser (and its affiliates Monterra Lumber Mills Ltd., Weyerhaeuser Saskatchewan Ltd.) | 15.83 | 12.39
All Others | 9.67 | 8.43
* No change.

Antidumping Duty Order

On May 16, 2002, pursuant to section 735(b)(1)(A)(ii) of the Act, the International Trade Commission (ITC) notified the Department of its final determination that the industry in the United States producing softwood lumber products is threatened with material injury by reason of imports of the subject merchandise from Canada.

In accordance with section 736(a)(1) of the Act, the Department will direct the Customs Service to assess, upon further advice by the administering authority, antidumping duties equal to the amount by which the normal value of the merchandise exceeds the export price or constructed export price of the merchandise for all entries of softwood lumber products from Canada. In accordance with section 736(b)(2) of the Act, duties shall be assessed on subject merchandise entered, or withdrawn from warehouse, for consumption on or after the date of publication of the ITC's notice of final determination if that determination is based on the threat of material injury and is not accompanied by a finding that injury would have resulted but for the imposition of suspension of liquidation of entries since the Department's preliminary determination. In addition, section 736(b)(2) of the Act requires the Customs Service to refund any cash deposits or bonds of estimated antidumping duties posted since the Department's preliminary antidumping determination if the ITC's final determination is based on a threat of material injury.

Because the ITC's final determination in this case is based on the threat of material injury and is not accompanied by a finding that injury would have resulted but for the imposition of suspension of liquidation of entries since the Department's preliminary determination, section 736(b)(2) is applicable to this order. Therefore, the Department will direct the Customs Service to assess, upon further advice, antidumping duties on all unliquidated entries of softwood lumber products from Canada entered, or withdrawn from warehouse, for consumption on or after the date of publication of the ITC's notice of final determination of threat of material injury in the Federal Register and terminate the suspension of liquidation for entries of softwood lumber products from Canada entered, or withdrawn from warehouse, for consumption prior to that date. The Department will also instruct the Customs Service to refund any cash deposits made, or bonds posted, between the publication date of the Department's preliminary antidumping determination and the publication of the ITC's final determination.

On or after the date of publication of the ITC's notice of final determination in the Federal Register, the Customs Service will require, at the same time as importers would normally deposit estimated duties, cash deposits for the subject merchandise equal to the amended weighted-average antidumping margins noted above.

Pursuant to section 735(a) of the Act, this notice constitutes the antidumping duty order with respect to Certain Softwood Lumber Products from Canada.

This order is published pursuant to section 736(a) of the Act and 19 CFR 351.211.

Dated: May 17, 2002.
Faryar Shirzad,
Assistant Secretary for Import Administration.

[FR Doc. 02-12988 Filed 5-21-02; 8:45 am]

BILLING CODE 3510-DS-P